DEPARTMENT OF TRANSPORTATION

Federal Highway Administration

Notice of Final Federal Agency Actions on Transportation Project in Nebraska

AGENCY: Federal Highway Administration (FHWA), Department of Transportation (DOT).

ACTION: Notice of limitation on claims for judicial review.

SUMMARY: This notice announces actions taken by the FHWA, on behalf of the Nebraska Department of Transportation, that are final. The action(s) relate to the Minatare US-385 Project, located in Scotts Bluff County and Morrill County, Nebraska. Those actions grant licenses, permits, and approvals for the project. The project will expand the existing two-lane highway to a four-lane expressway. The project starts on US-26 just west of Minatare's Main Street and extends east to the junction of US-26 and L-62A. The project continues east on L-62A to the junction with US-385. The FHWA's National Environmental Policy Act (NEPA) Finding of No Significant Impact (FONSI) provides details on the Selected Alternative for the proposed improvements.

DATES: A claim seeking judicial review of the Federal agency actions on the listed highway project will be barred unless the claim is filed on or before February 2, 2026. If the Federal law that authorizes judicial review of a claim provides a time period of less than 150 days for filing such claim, then that shorter time period still applies.

FOR FURTHER INFORMATION CONTACT:

For FHWA: James Simerl, Acting Division Administrator, Federal Highway Administration, 100 Centennial Mall North, Room 220, Lincoln, NE 68508, (402) 742-8460, james.simerl@dot.gov.

For NDOT: Kyle Keller, Project Development Engineer, 1500 Nebraska Parkway, Lincoln, NE 68502-4759, (402) 479-4795, kyle.keller@nebraska.gov.

SUPPLEMENTARY INFORMATION: Notice is hereby given that FHWA has taken final agency actions within the meaning of 23 U.S.C. 139(l)(1) by issuing a NEPA FONSI for the Minatare US-385 Project, located in Scotts Bluff County and Morrill County, Nebraska. The action(s) by FHWA and the laws under which such actions were taken are described in the FONSI and the associated agency records. That information is available by contacting FHWA at the addresses provided above.

The purpose of the project is to develop an improved transportation corridor connecting the junction of US-385 and L-62A, with the city of Minatare, Nebraska. The improved corridor is intended to provide an improved highway on a congressionally designated National Highway System (NHS) High Priority Corridor that increases the efficiency and safety of travel; fulfill federal legislative intent of ISTEA, TEA-21, SAFETEA-LU, and MAP-21; fulfill state legislative intent of the Build Nebraska Act and the Transportation Innovation Act; and address roadway and operational challenges of the existing facility. A FONSI for the project was signed on May 9, 2025.

Information about the FONSI and associated records are available from FHWA at the addresses provided above and can be found at: https://dot.nebraska.gov/projects/environment/environmental-documents/, or obtained by contacting the individuals listed above. This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (Section 319, Section 401, Section 402, Section 404) [33 U.S.C. 1251-1377]. Safe Drinking Water Act [42 U.S.C. 300(f) et seq.].

8. Executive Orders: Executive Order 11990 Protection of Wetlands; Executive Order 11988 Floodplain Management; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13045 Protection of Children From Environmental Health Risks and Safety Risks.

(Authority: 23 U.S.C. 139(l)(1).)

James Simerl,
FHWA Acting Division Administrator, Lincoln, NE.

[FR Doc. 2025-17076 Filed 9-4-25; 8:45 am]

BILLING CODE 4910-RY-P